FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Holding Company Report of Insured Depository Institutions' Section 23A Transactions with Affiliates (FR Y-8; OMB No. 7100-0126).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/review or may be requested from the agency clearance officer, whose name appears above. On the page displayed at the link above, you can find the supporting information by referencing the collection identifier, FR Y-8.

Final Approval Under OMB Delegated Authority of the Extension for Three Years, Without Revision, of the Following Information Collection

Collection title: Holding Company Report of Insured Depository Institutions' Section 23A Transactions with Affiliates.

Collection identifier: FR Y-8.

OMB control number: 7100-0126.

General description of collection: The FR Y-8 collects information on covered transactions between an insured depository institution and its affiliates that are subject to the quantitative limits and other requirements of section 23A of the Federal Reserve Act (12 U.S.C. 371c) and the Board's Regulation W—Transactions Between Member Banks and Their Affiliates (12 CFR part 223). The data to be reported vary based on the activities and subsidiaries of the insured depository institution. A respondent must file a separate FR Y-8 report for each U.S. insured depository institution it controls. The reports are used by the Federal Reserve System to monitor bank exposures to affiliates and to ensure banks' compliance with section 23A.

Frequency: Quarterly.

Respondents: U.S. top-tier bank holding companies, intermediate holding companies, and savings and loan holding companies; foreign banking organizations that directly own or control a U.S. subsidiary insured depository institution.

Total estimated number of respondents: 590.

Total estimated annual burden hours: 12,178.

Current actions: On October 2, 2024, the Board published a notice in the Federal Register (89 FR 80241) requesting public comment for 60 days on the extension, without revision, of the FR Y-8. The comment period for this notice expired on December 2, 2024. The Board did not receive any comments.

Board of Governors of the Federal Reserve System, February 4, 2025.
Benjamin W. McDonough,
Deputy Secretary and Ombuds of the Board.

[FR Doc. 2025-02363 Filed 2-6-25; 8:45 am]

BILLING CODE 6210-01-P